DEPARTMENT OF ENERGY

Federal Energy Regulatory Commission

[Docket No. CP07-13-000; Docket No. CP07-15-000]

Tennessee Gas Pipeline Company, Central New York Oil and Gas Company, LLC; Notice of Application

October 26, 2006.

On October 23, 2006, in Docket No. CP07-13-000, Tennessee Gas Pipeline Company (Tennessee), 1001 Louisiana, Houston, Texas 77002, pursuant to Section 7(b) of the Natural Gas Act (NGA) and Part 157 of the Commission's regulations, filed an application for authorization to abandon by sale to Central New York Oil and Gas Company, LLC, (CYNOG) the Stagecoach Lateral, a 23.7 mile lateral that runs from CNYOG's Stagecoach Storage Facility, located in Tioga County, New York southward to the interconnect with Tennessee's mainline facilities at Station 319 in Bradford County, Pennsylvania; to abandon all services on the Stagecoach Lateral; and to terminate all firm transportation agreements under Tennessee's rate Schedule FT-IL that provide transportation service on the Stagecoach Lateral. Additionally, Tennessee requests authorization to reclassify a certain contract's rate as a discount and to implement the necessary tariff changes to remove rate and other provisions applicable to services on the Stagecoach Lateral.

Also take notice, on October 23, 2006, in Docket No. CP07-15-000, CYNOG, Two Brush Creek Blvd, Suite 200, Kansas City, Missouri 64112, pursuant to Sections 4 and 7(c) of the NGA and Parts 154 and 157 of the Commission's regulations, filed an abbreviated application for a certificate of public convenience and necessity seeking authority to acquire from Tennessee and operate in interstate commerce the Stagecoach Lateral. In addition, CNYOG seeks authority to implement the necessary tariff changes to integrate the operation of the lateral into its Stagecoach Storage Facility.

These filings are available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659.

Any questions regarding the Tennessee application should be directed to Susan T. Halbach, Senior Counsel, 1001 Louisiana, Houston, Texas, 77002, phone (713) 420-5751. Any questions regarding the CNYOG application should be directed to William R. Moler, Vice President—Midstream Operations, CYNOG, Two Brush Creek Blvd., Suite 200, Kansas City, Missouri 64112, phone (816) 329-5344.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see, 18 CFR 385.2001(a)(1)(iii) and the instructions on the Commission's Web site under the “e-Filing” link. The Commission strongly encourages electronic filings.

Comment Date: 5 p.m. eastern time November 16, 2006.

Magalie R. Salas,
Secretary.

[FR Doc. E6-18528 Filed 11-2-06; 8:45 am]

BILLING CODE 6717-01-P